RAILROAD RETIREMENT BOARD

Agency Forms Submitted for OMB Review, Request for Comments

Summary: In accordance with the Paperwork Reduction Act of 1995 (44 U.S.C. Chapter 35), the Railroad Retirement Board (RRB) will be sending an Information Collection Request (ICR) to the Office of Information and Regulatory Affairs (OIRA), Office of Management and Budget (OMB) to propose an extension to the following collection of information: 3220-0192, Voluntary Customer Surveys in Accordance with E.O. 12862, consisting of RRB Form(s) G-201, Customer Assessment Survey.

In accordance with Executive Order 12862, the Railroad Retirement Board (RRB) conducts a number of customer surveys designed to determine the kinds and quality of services our beneficiaries, claimants, employers and members of the public want and expect, as well as their satisfaction with existing RRB services. The information collected is used by RRB management to monitor customer satisfaction by determining to what extent services are satisfactory and where and to what extent services can be improved. The surveys are limited to data collections that solicit strictly voluntary opinions, and do not collect information which is required or regulated. The information collection, which was first approved by the Office of Management and Budget (OMB) in 1997, provides the RRB with a generic clearance authority. This generic authority allows the RRB to submit a variety of new or revised customer survey instruments (needed to timely implement customer monitoring activities) to the Office of Management and Budget (OMB) for expedited review and approval. Our ICR describes the information we seek to collect from the public.

The RRB invites comments on the proposed collection of information to determine (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Previous Requests for Comments: The RRB has already published the initial 60-day notice (71 FR 51236 on August 29, 2006) required by 44 U.S.C. 3506(c)(2).That request elicited no comments.

Information Collection Request (ICR)

Title: Voluntary Customer Surveys in Accordance with E.O. 12862.

OMB Control Number: 3220-0192.

Form(s) submitted: G-201, Customer Assessment Survey.

Type of request: Extension of a currently approved collection.

Affected public: Individuals or households, Business-or-other-for profit.

Obligation to Respond: Voluntary.

Abstract: The Railroad Retirement Board (RRB) utilizes voluntary customer surveys to ascertain customer satisfaction with the RRB in terms of timeliness, appropriateness, access, and other measures of quality service. Surveys involve individuals that are direct or indirect beneficiaries of RRB services as well as railroad employers who must report earnings.

Changes Proposed: The RRB proposes no changes to the information collection.

The burden estimate for this ICR is unchanged as follows:

Estimated annual number of respondents: 1,750.

Total annual responses: 1,750.

Total annual reporting hours: 735

For Further Information Contact: Copies of the form and supporting documents can be obtained from Charles Mierzwa, the agency clearance officer at (312-751-3363) or Charles.Mierzwa@rrb.gov.

Comments: Comments regarding the information collection should be addressed to Ronald J. Hodapp, Railroad Retirement Board, 844 North Rush Street, Chicago, Illinois 60611-2092 or Ronald.Hodapp@rrb.gov and to the OMB Desk Officer for the RRB, Karen Matsuoka at kmatsuoka@omb.eop.gov, FAX (202) 395-6974.

Charles Mierzwa,
RRB Clearance Officer.

[FR Doc. E6-20937 Filed 12-8-06; 8:45 am]

BILLING CODE 7905-01-P